DEPARTMENT OF DEFENSE

Department of the Navy

Meeting of the Secretary of the Navy's Advisory Subcommittee on Naval History

AGENCY: Department of the Navy, DOD.

SUMMARY: Notice is hereby given that the Secretary of the Navy's Advisory Subcommittee on Naval History, a subcommittee of the Department of Defense Historical Advisory Committee, is meeting to review Naval historical activities since the last meeting of the Advisory Subcommittee on Navy History on September 16 and 17, 1999, and to make comments and recommendations on these activities to the Secretary of the Navy. The meeting will be open to the public.

DATES: The meeting will be held on Thursday, September 21, 2000, from 8:00 a.m. to 4:00 p.m., and on Friday, September 22, 2000, from 8:00 a.m. to 4:00 p.m.

ADDRESS: The meeting will be held in Building 1 of the Naval Historical Center, Washington Navy Yard, Washington, DC.

FOR FURTHER INFORMATION CONTACT: The Director of Naval History, 805 Kidder Breese Street, SE, Bldg. 57 Washington Navy Yard, Washington, DC 20374-5060, or call Dr. William S. Dudley at telephone number (202) 433-2210.

SUPPLEMENTARY INFORMATION: This notice of meting is provided in accordance with the provisions of the Federal Advisory Committee Act (5 U.S.C. App. 2).

Dated: August 2, 2000.
J.L. Roth,
Lieutenant Commander, Judge Advocate General's Corps, U.S. Navy, Federal Register Liaison Officer.

[FR Doc. 00-20365 Filed 8-10-00; 8:45 am]

BILLING CODE 3810-FF-P